DEPARTMENT OF DEFENSE

Department of the Air Force

[Docket ID: USAF-2020-HQ-0005]

Proposed Collection, Comment Request

AGENCY: Headquarters Air Force Personnel Center/Airman and Family Sustainment Branch, Department of Defense.

ACTION: Information collection notice.

SUMMARY: In compliance with the Paperwork Reduction Act of 1995, the Airman and Family Sustainment Branch, Headquarters Air Force Personnel Center, announces the proposed reinstatement of a public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 13, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Airman and Family Sustainment Branch (DPFFF), Headquarters Air Force Personnel Center, 550 C Street West, Joint Base, San Antonio, TX, 78150-4713, ATTN: Mrs. Denise Blount or call 210-565-2158.

SUPPLEMENTARY INFORMATION:

Title, Associated Form, and OMB Number: Foreign Government Employment Application; OMB Number 0701-0134.

Needs and Uses: The information collection requirement is to obtain the information needed by the Secretary of the Air Force and Secretary of State on which to base a decision to approve/disapprove a request to work for a foreign government. This approval is specified by Title 37, United States Code, and Section 908. This statute delegates such approval (authority of Congress to the respective service secretaries and to the Secretary of State.

Affected Public: Individuals and households.

Annual Burden Hours: 20.

Number of Respondents: 20.

Responses per Respondent: 1.

Annual Responses: 20.

Average Burden per Response: 1 hour.

Frequency: On occasion.

The collection instrument includes a foreign government employment memorandum, employment questionnaire, and an SF 312, a nondisclosure agreement. The information received from these documents include a detailed description of duty, name of employer, Social Security Number, and statements specifying whether or not the employee will be compensated; declaring if employee. will be required or plans to obtain foreign citizenship; declaring that the member will not be required to execute an oath of allegiance to the foreign government; verifying that the member understands that retired pay equivalent to the amount received from the foreign government may be withheld if he or she accepts employment with a foreign government before receiving approval. Reserve members only must include a request to be reassigned to Inactive Status List Reserve Section (Reserve Section Code RB).

Dated: May 11, 2020.
Aaron T. Siegel,
Alternate OSD Federal Register Liaison Officer, Department of Defense.

[FR Doc. 2020-10337 Filed 5-13-20; 8:45 am]

BILLING CODE 5001-06-P